DEPARTMENT OF COMMERCE

Foreign-Trade Zones Board

[Docket 9-2007]

Foreign-Trade Zone 38 Spartanburg County, South Carolina, Termination of Review of Application for Subzone, Leiner Health Products LLC (Ibuprofen Products), Fort Mill, South Carolina

Notice is hereby given of termination of review of a subzone application submitted by the South Carolina State Ports Authority, grantee of FTZ 38, requesting special-purpose subzone status with manufacturing authority for certain ibuprofen products at the pharmaceutical manufacturing facility of Leiner Health Products, LLC, located in Fort Mill, South Carolina. The application was filed on March 2, 2007 (72 FR 10643, 3/9/07).

The termination is the result of changed circumstances, and the case has been closed without prejudice.

Dated: February 17, 2009.
Andrew McGilvray,
Executive Secretary.

[FR Doc. E9-4039 Filed 2-24-09; 8:45 am]

BILLING CODE 3510-DS-S